DEPARTMENT OF ENERGY

Federal Energy Regulatory Commission

[Docket Nos. RP00-495-000 and RP01-97-000]

Texas Gas Transmission Corporation; Notice of Change in Technical Conference

April 24, 2001.

The technical conference in the above-captioned dockets which was previously scheduled to begin at 9 a.m. on May 24, 2001, by notice issued April 19, 2001, will instead begin at 10 a.m. on the same day, in order to accommodate the travel arrangements of theparties.

David P. Boergers
Secretary.

[FR Doc. 01-10589 Filed 4-27-01; 8:45 am]

BILLING CODE 6717-01-M